Title 3—

The President

Presidential Determination No. 2004-22 of February 5, 2004

Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest of the United States that up to $12 million be made available from the U.S. Emergency Refugee and Migration Assistance Fund to address unexpected urgent refugee and migration needs, including those of refugees, displaced persons, conflict victims, and other persons at risk from the Sudanese refugee crisis in Chad and to prepare for refugee repatriations to Sudan. These funds may be used, as appropriate, to provide contributions to international, governmental, and nongovernmental organizations.

You are authorized and directed to inform the appropriate committees of the Congress of this determination and the obligation of funds under this authority, and to arrange for the publication of this memorandum in the Federal Register.

B

THE WHITE HOUSE,

Washington, February 5, 2003.

[FR Doc. 04-4137

Filed 2-23-04; 8:45 am]

Billing code 4710-10-P